NATIONAL CAPITAL PLANNING COMMISSION

Application by the Libyan Government To Improve the Libyan Embassy

AGENCY: National Capital Planning Commission.

ACTION: Notice of application to the National Capital Planning Commission and public meeting.

SUMMARY: The National Capital Planning Commission (NCPC or Commission) hereby gives notice of its intent to review and either not disapprove, or alternatively, to disapprove an application from the Libyan Government to improve the chancery of the State of Libya located at 1460 Dahlia Street NW, in the Foreign Missions Center (FMC).

DATES: The application will be reviewed at the Commission's November meeting to be held on November 5, 2020. At the meeting, the public will be able to comment on the proposed application. The meeting will begin at 1 p.m. Parties wishing to speak must register at www.ncpc.gov/review/meeting/ by not later than 12 p.m. on November 4, 2020. Comments must be addressed solely to the six criteria by which NCPC must evaluate the application. These criteria are listed in this notice under Supplementary Information.

ADDRESSES: Written public comments on the draft may be submitted electronically (preferred method) or by U.S. Mail as follows:

1. U.S. mail, courier, or hand delivery: National Capital Planning Commission, Attention: Office of Public Engagement, 401 9th Street NW, Suite 500N, Washington, DC 20004.

2. Electronically: Comments may be posted on-line at https://www.ncpc.gov/participate/notices/8211/.

FOR FURTHER INFORMATION CONTACT: Carlton Hart at (202) 482-7252 or info@ncpc.gov.

SUPPLEMENTARY INFORMATION: On February 27, 2017, NCPC and the United States Department of State, Office of Foreign Missions (OFM), entered into a Memorandum of Agreement (MOA) addressing how applications for the location, replacement or expansion of chanceries at the Foreign Missions Center (FMC) would be reviewed. The FMC consists of approximately 30 acres of federally owned property at the former Walter Reed National Military Medical Center in Washington, DC. In the MOA, the parties granted NCPC sole authority to review applications for the location, replacement, or expansion of chanceries at the FMC. The MOA requires NCPC's review to undergo notice and comment, and it precludes conducting the review as a formal adjudicatory proceeding. It also requires NCPC to either not disapprove or, alternatively, disapprove the application based on the application of six criteria contained in the Foreign Missions Act (FMA). Those criteria include:

• The international obligation of the United States to facilitate provision of adequate and secure facilities for the foreign mission in the nation's capital;

• substantial compliance with Federal regulations governing historic preservation shall be required with respect to new construction, demolition, or alteration to historic landmarks to ensure compatibility with historic landmarks and districts;

• the adequacy of off-street parking or other parking and the extent to which the area will be served by public transportation to reduce parking requirements, subject to such special security requirements as may be determined by the Secretary of State (Secretary), after consultation with Federal agencies authorized to perform protective services;

• the extent to which the area is capable of being adequately protected, as determined by the Secretary, after consultation with Federal agencies authorized to perform protective services;

• the municipal interest, as determined by the Mayor of the District of Columbia; and

• the Federal interest, as determined by the Secretary.

In addition to this notice, NCPC will publish a Tentative Agenda for the November 5, 2020 meeting on October 16, 2020 and a final agenda on October 30, 2020. These documents may be found on-line at https://www.ncpc.gov/review/agenda/.

Authority: 22 U.S.C. 4306; Memorandum of Agreement by and among the National Capital Planning Commission and the United States Department of State, Office of Foreign Missions, February 27, 2017.

Dated: September 29, 2020.
Anne R. Schuyler,
General Counsel.

[FR Doc. 2020-21821 Filed 10-6-20; 8:45 am]

BILLING CODE P